FEDERAL TRADE COMMISSION

16 CFR Part 305

Rule Concerning Disclosures Regarding Energy Consumption and Water Use of Certain Home Appliances and Other Products Required Under the Energy Policy and Conservation Act (“Appliance Labeling Rule”); Correction

AGENCY: Federal Trade Commission.

ACTION: Final rule; correction.

SUMMARY: The Federal Trade Commission (“Commission”) amends its Appliance Labeling Rule by issuing a correction to the range of comparability for certain freezers published on November 19, 2001 (66 FR 57867), to become effective on February 19, 2002. The correction affects only the range of comparability in Appendix B1 of the Rule for upright freezers with manual defrost with a total refrigerated volume between 13.5 and 15.4 cubic feet.

EFFECTIVE DATE: February 19, 2002.

FOR FURTHER INFORMATION CONTACT: Hampton Newsome, Attorney, Division of Enforcement, Federal Trade Commission, Washington, DC 20580 (202-326-2889); hnewsome@ftc.gov.

SUPPLEMENTARY INFORMATION: Energy use figures for 2001 for refrigerators, refrigerator-freezers, and freezers were submitted last year by manufacturers and analyzed by the Commission. New ranges of comparability based upon them were published in the Federal Register on November 19, 2001 (66 FR 57867). The Commission staff has learned since publication that there was an inadvertent error in the range in Appendix B1 for upright freezers with manual defrost with total refrigerated volumes between 13.5 and 15.4 cubic feet. This notice contains the corrected number.

Although this corrected range of comparability for upright freezers with manual defrost is being published prior to the effective date of the November notice, manufacturers need not relabel any freezer already labeled and may use any labels that were ordered or printed before the date of this notice in good faith reliance on the November 19 notice. After this initial stock of labels is exhausted, however, manufacturers must use labels based on today's notice.

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

List of Subjects in 16 CFR Part 305

Advertising, Energy conservation, Household appliances, labeling, Reporting and recordkeeping requirements.

Accordingly, 16 CFR part 305 is corrected by making the following correcting amendments:

PART 305—[CORRECTED]

1. The authority citation for Part 305 continues to read as follows:

Authority: 42 U.S.C. 6294.

2. Appendix B1 to Part 305 is revised to read as follows:

Appendix B1 to Part 305.—Upright Freezers With Manual Defrost
[Range information]
Manufacturer's rated total refrigerated volume in cubic feet | Range of estimated annual energy consumption (kWh/yr.): Low | Range of estimated annual energy consumption (kWh/yr.): High
Less than 5.5 | (*) | (*)
5.5 to 7.4 | 354 | 354
7.5 to 9.4 | 372 | 372
9.5 to 11.4 | 392 | 392
11.5 to 13.4 | 409 | 410
13.5 to 15.4 | 442 | 454
15.5 to 17.4 | 477 | 482
17.5 to 19.4 | (*) | (*)
19.5 to 21.4 | 512 | 527
21.5 to 23.4 | (*) | (*)
23.5 to 25.4 | 580 | 580
25.5 to 27.4 | (*) | (*)
27.5 to 29.4 | (*) | (*)
29.5 and over | 1,748 | 1,748
* No data submitted for units meeting the Department of Energy's Energy Conservation Standards effective July 1, 2001.

By direction of the Commission.
Donald S. Clark,
Secretary.

[FR Doc. 02-2073 Filed 1-28-02; 8:45 am]

BILLING CODE 6750-01-M